DEPARTMENT OF LABOR

Employment and Training Administration

Policy and Procedural Change To No Longer Publish Notices of Funding Opportunities in the Federal Register

AGENCY: Employment and Training Administration, Labor.

ACTION: Notice.

SUMMARY: This notice is to announce that the Department of Labor (DOL)'s Employment and Training Administration (ETA) will no longer publish Notices of Funding Opportunities in the Federal Register. ETA will continue to post the full texts of all ETA's Funding Opportunity Announcements (FOAs) at the government-wide Internet site, http://www.grants.gov, in accordance with the policy directive issued by the Office of Management and Budget (OMB). An applicant for funding may access the full FOA associated with a synopsis posted at http://www.grants.gov by following the universal resource locator (URL) link included in the synopsis, or by visiting ETA's Web site at http://www.doleta.gov.

DATES: Effective Date: December 29, 2016.

FOR FURTHER INFORMATION CONTACT: Laura P. Watson, 200 Constitution Avenue NW., Washington, DC 20210; telephone: 202-693-3333.

SUPPLEMENTARY INFORMATION: ETA continually searches for ways to improve its operating and economic efficiency. DOL's policies currently provide for publication of one page notices of FOAs in the Federal Register. In addition to the publication of notices of FOAs in the Federal Register, DOL, like all Federal agencies, is mandated to publish FOAs on http://www.grants.gov. ETA has published the full text of FOAs on both http://www.grants.gov and on its Web site. The Web sites provide the public with a more efficient way to complete FOAs and expedite the process of obtaining any available funding.

On October 8, 2003, OMB issued a policy directive entitled “Requirement to Post Funding Opportunity Announcement Synopses at http://www.grants.gov and Related Data Elements/Format” [68 FR 58146, Oct. 8, 2003]. The directive requires every Federal agency that awards agreements to post synopses of its funding opportunity announcements in standard format on the Internet at http://www.grants.gov or such Web site/Internet address that may be identified by OMB. A single government-wide Web site provides prospective applicants the opportunity to locate funding opportunities in one place rather than having to search for announcements in multiple locations. This was reinforced by OMB's issuance of its Uniform Guidance on December 26, 2014 [2 CFR 200], which specifically calls for notices of funding opportunities to include specific information when posted on http://www.grants.gov.

ETA has determined that, given the mandated shift towards the singular usage of http://www.grants.gov for funding opportunity information, it has become redundant to continue to publish abbreviated notices for these in the Federal Register. Hereafter, we will suspend the use of these notices to announce funding opportunities, and continue to post the full text of FOAs at http://www.grants.gov and on our own Web site. The increasing use of http://www.grants.gov as a funding opportunity portal will allow the public to still have access to the complete application package and other details regarding the FOA.

Portia Wu,
Assistant Secretary, Employment and Training Administration.

[FR Doc. 2016-31434 Filed 12-28-16; 8:45 am]

BILLING CODE 4510-FM-P